DEPARTMENT OF ENERGY

Federal Energy Regulatory Commission

Combined Notice of Filings #1

Take notice that the Commission received the following electric rate filings:

Docket Numbers: ER10-2964-006.

Applicants: Selkirk Cogen Partners, L.P.

Description: Notice of Non-Material Change in Status of Selkirk Cogen Partners, L.P.

Filed Date: 1/30/15.

Accession Number: 20150130-5386.

Comments Due: 5 p.m. ET 2/20/15.

Docket Numbers: ER10-3203-003; ER10-3050-002; ER10-3052-002; ER10-3053-002.

Applicants: J. Aron & Company, Cabazon Wind Partners, LLC, Rock River I, LLC, Whitewater Hill Wind Partners, LLC.

Description: Notice of Non-Material Change in Status of J. Aron & Company, et al.

Filed Date: 1/30/15.

Accession Number: 20150130-5453.

Comments Due: 5 p.m. ET 2/20/15.

Docket Numbers: ER13-342-006.

Applicants: CPV Shore, LLC.

Description: Notice of Change in Status of CPV Shore, LLC.

Filed Date: 1/30/15.

Accession Number: 20150130-5391.

Comments Due: 5 p.m. ET 2/20/15.

Docket Numbers: ER14-1317-003; ER11-2041-006; ER11-2042-006; ER10-3193-006; ER10-2964-007; ER10-2924-006; ER10-2480-005; ER10-2959-006; ER10-2961-005; ER10-2934-005; ER12-281-007; ER10-3099-011; ER13-821-007; ER10-2950-005; ER14-2500-001; ER14-2498-001; ER10-2615-005; ER11-2335-006; ER10-2538-003.

Applicants: Sunshine Gas Producers, LLC, Innovative Energy Systems, LLC, Seneca Energy II, LLC, Brooklyn Navy Yard Cogeneration Partners, L.P., Selkirk Cogen Partners, L.P., Kleen Energy Systems, LLC, Berkshire Power Company, LLC, Chambers Cogeneration, Limited Partnership, Edgecombe Genco, LLC, Logan Generating Company, L.P., Northampton Generating Company, L.P., RC Cape May Holdings, LLC, Scrubgrass Generating Company, L.P., Spruance Genco, LLC, Newark Energy Center, LLC, EIF Newark, LLC, Plum Point Energy Associates, LLC, Plum Point Services Company, LLC, Panoche Energy Center, LLC

Description: Notice of Non-Material Change in Status of Sunshine Gas Producers, LLC, et al.

Filed Date: 1/30/15.

Accession Number: 20150130-5454.

Comments Due: 5 p.m. ET 2/20/15.

Docket Numbers: ER14-2553-002.

Applicants: Southwest Power Pool, Inc.

Description: Compliance filing per 35: Compliance Filing—ER14-2553—Implement Long Term Congestion Rights to be effective 2/1/2015.

Filed Date: 1/30/15.

Accession Number: 20150130-5296.

Comments Due: 5 p.m. ET 2/20/15.

Docket Numbers: ER15-142-002.

Applicants: Midcontinent Independent System Operator, Inc., Van Ness Feldman LLP.

Description: Compliance filing per 35: 2015-01-30_MMU Attachment O Compliance Filing to be effective 1/1/2015.

Filed Date: 1/30/15.

Accession Number: 20150130-5302.

Comments Due: 5 p.m. ET 2/20/15.

Docket Numbers: ER15-947-000.

Applicants: The Connecticut Light and Power Company.

Description: § 205(d) rate filing per 35.13(a)(2)(iii): Interconnection Agreement Between CL&P and Energy Stream, LLC. to be effective 3/31/2015.

Filed Date: 1/30/15.

Accession Number: 20150130-5297.

Comments Due: 5 p.m. ET 2/20/15.

Docket Numbers: ER15-948-000.

Applicants: Illinois Power Marketing Company.

Description: § 205(d) rate filing per 35.13(a)(2)(iii): System Support Resources Agreement and Request for Consolidation to be effective 1/1/2015.

Filed Date: 1/30/15.

Accession Number: 20150130-5300.

Comments Due: 5 p.m. ET 2/20/15.

Docket Numbers: ER15-949-000.

Applicants: Southwestern Public Service Company.

Description: § 205(d) rate filing per 35.13(a)(2)(iii): 1-30-15_SPS CP Filing to be effective 2/1/2015.

Filed Date: 1/30/15.

Accession Number: 20150130-5301.

Comments Due: 5 p.m. ET 2/20/15.

Docket Numbers: ER15-950-000.

Applicants: PJM Interconnection, L.L.C., Baltimore Gas and Electric Company.

Description: § 205(d) rate filing per 35.13(a)(2)(iii): BGE submits revisions to Att H-2A re Stated Depreciation Rates to be effective 3/30/2015.

Filed Date: 1/30/15.

Accession Number: 20150130-5303.

Comments Due: 5 p.m. ET 2/20/15.

Docket Numbers: ER15-951-000.

Applicants: Alabama Power Company.

Description: § 205(d) rate filing per 35.13(a)(2)(iii): Attachment S (MPCo) Filing to be effective 1/1/2015.

Filed Date: 1/30/15.

Accession Number: 20150130-5305.

Comments Due: 5 p.m. ET 2/20/15.

Docket Numbers: ER15-952-000.

Applicants: New Jersey Energy Associates, a Limited Partnership.

Description: Petition of New Jersey Energy Associates, a Limited Partnership for Waiver of PJM Tariff and Operating Agreement.

Filed Date: 1/30/15.

Accession Number: 20150130-5390.

Comments Due: 5 p.m. ET 2/20/15.

Docket Numbers: ER15-953-000.

Applicants: Arkansas Electric Cooperative Corporation.

Description: Application of Arkansas Electric Cooperative Corporation for approval of revenue requirements for reactive supply in MISO.

Filed Date: 1/30/15.

Accession Number: 20150130-5399.

Comments Due: 5 p.m. ET 2/20/15.

Docket Numbers: ER15-954-000.

Applicants: Midcontinent Independent System Operator, Inc.

Description: Notice of Termination of Generator Interconnection Agreement for Service Agreement No. 2317 for Project G667 of Midcontinent Independent System Operator, Inc.

Filed Date: 1/30/15.

Accession Number: 20150130-5402.

Comments Due: 5 p.m. ET 2/20/15.

Docket Numbers: ER15-955-000.

Applicants: Robinson Power Company, LLC.

Description: Petition for Waiver of Competitive Entry Exemption Deadline of Robinson Power Company, LLC.

Filed Date: 1/30/15.

Accession Number: 20150130-5435.

Comments Due: 5 p.m. ET 2/9/15.

Docket Numbers: ER15-956-000.

Applicants: Portland General Electric Company.

Description: § 205(d) rate filing per 35.13(a)(2)(iii): GTA Agreement PGE and BPA Exhibit D Update to be effective 2/3/2015.

Filed Date: 2/2/15.

Accession Number: 20150202-5250.

Comments Due: 5 p.m. ET 2/23/15.

Docket Numbers: ER15-957-000.

Applicants: AltaGas Ripon Energy Inc.

Description: Baseline eTariff Filing per 35.1: AltaGas Ripon Energy Inc. MBR Tariff to be effective 2/5/2015.

Filed Date: 2/2/15.

Accession Number: 20150202-5256.

Comments Due: 5 p.m. ET 2/23/15.

Docket Numbers: ER15-958-000.

Applicants: Transource Kansas, LLC.

Description: Baseline eTariff Filing per 35.1: Transource Kansas, LLC § 205 Filing to Establish an Incentive Formula Rate to be effective 4/3/2015.

Filed Date: 2/2/15.

Accession Number: 20150202-5266.

Comments Due: 5 p.m. ET 2/23/15.

Take notice that the Commission received the following electric securities filings:

Docket Numbers: ES15-11-000.

Applicants: Entergy Services, Inc.

Description: Application of Entergy Services, Inc. on behalf of Entergy Louisiana Power, LLC, for Section 204 authorizations.

Filed Date: 1/30/15.

Accession Number: 20150130-5410.

Comments Due: 5 p.m. ET 2/20/15.

Take notice that the Commission received the following land acquisition reports:

Docket Numbers: LA14-4-000.

Applicants: All Dams Generation, LLC, Arlington Valley Solar Energy II, LLC, Bluegrass Generation Company, L.L.C., Calhoun Power Company, LLC, Carville Energy LLC, Centinela Solar Energy, LLC, Cherokee County Cogeneration Partners, LLC, Columbia Energy LLC, Decatur Energy Center, LLC, DeSoto County Generating Company, LLC, Doswell Limited Partnership, Lake Lynn Generation, LLC, Las Vegas Power Company, LLC, LS Power Marketing, LLC, LSP University Park, LLC, Mobile Energy LLC, Oneta Power, LLC, PE Hydro Generation, LLC, Renaissance Power, L.L.C., Riverside Generating Company, LLC, Rocky Road Power, LLC, Santa Rosa Energy Center, LLC, Seneca Generation, LLC, Tilton Energy LLC, University Park Energy, LLC, Wallingford Energy LLC, West Deptford Energy, LLC.

Description: Quarterly Land Acquisition Report of the LS Power Development, LLC subsidiaries.

Filed Date: 1/30/15.

Accession Number: 20150130-5432.

Comments Due: 5 p.m. ET 2/20/15.

Take notice that the Commission received the following public utility holding company filings:

Docket Numbers: PH15-8-000.

Applicants: Enbridge Inc.

Description: Enbridge Inc. submits FERC 65-B Waiver Notification and Notice of Material Change in Facts.

Filed Date: 2/2/15.

Accession Number: 20150202-5214.

Comments Due: 5 p.m. ET 2/23/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 2, 2015.
Nathaniel J. Davis, Sr.,
Deputy Secretary.

[FR Doc. 2015-02632 Filed 2-9-15; 8:45 am]

BILLING CODE 6717-01-P